POSTAL REGULATORY COMMISSION

[Docket No. N2024-1; Order No. 7414]

Service Standard Changes

AGENCY: Postal Regulatory Commission.

ACTION: Notice.

SUMMARY: The Commission is acknowledging a filing by the Postal Service of its intent to conduct a pre-filing conference regarding proposed changes to its processing and transportation networks and revisions to its service standards to align with these changes. This document informs the public of this proceeding and the pre-filing conference, and takes other administrative steps.

DATES: Pre-filing conference: September 5, 2024, 1 p.m. to 3 p.m., eastern daylight time—Virtual Online.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: Pursuant to 39 CFR 3020.111(d), on August 22, 2024, the Postal Service filed a notice of its intent to conduct a pre-filing conference on September 5, 2024, regarding proposed changes to its processing and transportation networks and revisions to its service standards to align with these changes.¹

¹ Notice of Pre-Filing Conference, August 22, 2024, at 1 (Notice).

As part of its Delivering for America strategic plan, the Postal Service intends to implement certain initiatives to “to achieve greater operational precision and efficiency, significantly reduce costs, and enhance service.” ² Specifically, the Postal Service intends to create a network of regional processing and distribution centers or campuses (RPDCs) and local processing centers (LPCs). Notice at 3. It also intends to implement a Regional Transportation Optimization (RTO) initiative to transform its transportation network. Id. The RTO initiative is an evolution of the Local Transportation Optimization (LTO) initiative that the Postal Service asserts had been piloted in certain geographic areas. Id. The Postal Service estimates that these initiatives will result in costs savings between $2.8 billion to $3.3 billion per year once fully implemented. Id. at 4.

² Notice at 3; see also United States Postal Service, Delivering for America: Our Vision and Ten-Year Plan to Achieve Financial Sustainability and Service Excellence, March 23, 2021, available at https://about.usps.com/what/strategic-plans/delivering-for-america/assets/USPS_Delivering-For-America.pdf.

To align with these initiatives, the Postal Service proposes to change its service standards for end-to-end Market Dominant and Competitive products. Id. The Postal Service states that it will transition from plant-to-plant (i.e., 3-Digit to 3-Digit ZIP Code) to Post Office to Post Office (i.e., 5-Digit to 5-Digit ZIP Code) service standards that “maintain the existing delivery day ranges for both First-Class Mail and USPS Ground Advantage while accurately and logically reflecting the three operational legs applicable to the movement of mail and packages: collection to origin processing (Leg 1), origin processing to destination processing (Leg 2), and destination processing to delivery (Leg 3).” Id. The Postal Service also plans to revise the service standards for end-to-end USPS Marketing Mail and Package Services so that they are based on the standards for First-Class Mail and USPS Ground Advantage. Id. at 4-5. In addition, the Postal Service plans to exclude Sundays and holidays as transit days for mail and packages entered on a Saturday or the day before a holiday. Id. at 5.

The Postal Service states that “these revisions will create standards that are more operationally precise and specific for customers, enable the Postal Service to maintain or upgrade the service standards for a majority of volume, and enhance the Postal Service's ability to reliably achieve [its] standards.” Id. at 4. The Postal Service claims that most volume will retain the same service standard or see service standard improvements, but some mail and packages will experience a longer service standard. Id. at 5. Although it may implement discrete aspects of these initiatives due to pilot testing, the Postal Service states that the proposed service standard changes will not be implemented until the next calendar year and will not impact Election Mail or Peak Season 2024. Id. at 6-7.

The pre-filing conference regarding the proposed changes will be held virtually on September 5, 2024, from 1 p.m. to 3 p.m. eastern daylight time (EDT). Id. at 1, 7. At this conference, Postal Service representatives capable of discussing the Postal Service's proposal will be available to educate the public and to allow interested persons to provide feedback to the Postal Service. Id. Registration instructions are available at https://about.usps.com/what/strategic-plans/delivering-for-america/details.htm. Id. at 7. Unless all available spaces are taken sooner, registration is open until September 3, 2024, at 12 p.m. EDT. Id.

The Commission establishes Docket No. N2024-1 to consider the Postal Service's proposed initiatives and accompanying revisions to its service standards. The Postal Service must file its formal request for an advisory opinion with the Commission at least 90 days before implementing any of the proposed changes. 39 CFR 3020.112. This formal request must certify that the Postal Service has made good faith efforts to address the concerns raised at the pre-filing conference and meet other content requirements. 39 CFR 3020.113. After the Postal Service files the formal request for an advisory opinion, the Commission will set forth a procedural schedule and provide additional information in a notice and order that will be published in the Federal Register. 39 CFR 3020.110. Before issuing its advisory opinion, the Commission must provide an opportunity for a formal, on-the-record hearing pursuant to 5 U.S.C. 556 and 557. 39 U.S.C. 3661(c). The procedural rules in 39 CFR part 3020 apply to Docket No. N2024-1.

Pursuant to 39 U.S.C. 3661(c) and 39 CFR 3020.111(d), the Commission appoints Ping Gong to represent the interests of the general public (Public Representative) in this proceeding. Pursuant to 39 CFR 3020.111(d), the Secretary shall arrange for publication of this order in the Federal Register.

It is ordered:

1. The Commission establishes Docket No. N2024-1 to consider the Postal Service's proposed changes to the service standards for end-to-end Market Dominant and Competitive products to align with certain operational initiatives.

2. The Postal Service shall conduct a virtual pre-filing conference regarding its proposal on September 5, 2024, from 1:00 p.m. to 3:00 p.m. EDT.

3. Pursuant to 39 U.S.C. 3661(c) and 39 CFR 3020.111(d), Ping Gong is appointed to serve as an officer of the Commission (Public Representative) to represent the interests of the general public in this proceeding.

4. Pursuant to 39 CFR 3020.111(d), the Secretary shall arrange for publication of this order in the Federal Register.

By the Commission.
Erica A. Barker,
Secretary.

[FR Doc. 2024-19551 Filed 8-29-24; 8:45 am]

BILLING CODE 7710-FW-P